DEPARTMENT OF TRANSPORTATION

[Docket No. DOT-OST-2010-0054]

Notice of Submission of Proposed Information Collections to OMB; Agency Request for Renewal of Previously Approved Information Collections: Nondiscrimination on the Basis of Disability in Air Travel: Reporting Requirements for Disability-Related Complaints

AGENCY: Office of the Secretary (OST), Department of Transportation (Department or DOT).

ACTION: Notice and request for comments.

SUMMARY: In accordance with the Paperwork Reduction Act of 1995, this notice announces the Department of Transportation's intention to renew an Office of Management and Budget (OMB) control number for information collection request (ICR) OMB No. 2105-0551, “Reporting Requirements for Disability-Related Complaints.” This collection is related to a requirement in the Code of Federal Regulations (CFR) for carriers to report annually to the Department the number of disability-related complaints they receive.

DATES: Written comments on this notice should be submitted by February 19, 2019.

ADDRESSES: You may submit comments (identified by Docket No. DOT-OST-2010-0054) through one of the following methods:

• Federal eRulemaking Portal: http://www.regulations.gov. Follow the online instructions for submitting comments.

• Fax: 1-202-493-2251.

• Mail or Hand Delivery: Docket Management Facility, U.S. Department of Transportation, West Building, Ground Floor, Rm. W-12-140, 1200 New Jersey Avenue SE, Washington, DC 20590, between 9:00 a.m. and 5:00 p.m. EST, Monday through Friday, except on Federal Holidays.

FOR FURTHER INFORMATION CONTACT: Maegan Johnson, Office of the General Counsel, Office of the Secretary, U.S. Department of Transportation, 1200 New Jersey Avenue SE, Washington, DC 20590, 202-366-9342 (Voice), 202-366-7152 (Fax), or maegan.johnson@dot.gov (Email). Arrangements to receive this document in an alternative format may be made by contacting the above-named individuals.

SUPPLEMENTARY INFORMATION:

OMB Control Number: 2105-0551.

Title: Reporting Requirements for Disability-Related Complaints.

Type of Request: Renewal of information collections.

Background: On July 8, 2003, the Office of the Secretary published a final rule that requires most certificated U.S. and foreign air carriers operating to, from and within the U.S. that conduct passenger-carrying service utilizing at least one large aircraft to record complaints that they receive alleging inadequate accessibility or discrimination on the basis of disability. The carriers must also categorize these complaints according to the type of disability and nature of complaint, prepare a summary report annually of the complaints received during the preceding calendar year, submit the report to the Department's Aviation Consumer Protection Division, and retain copies of correspondence and records of action taken on the reported complaints for three years. The rule requires carriers to submit their annual report via the World Wide Web except if the carrier can demonstrate an undue burden by doing so and receives permission from the Department to submit it in an alternative manner. The first required report covered disability-related complaints received by carriers during calendar year 2004, was due to the Department on January 31, 2005. Carriers have since submitted subsequent reports by the last Monday in January for the prior calendar year.

The title, a description of the information collection and respondents, and the periodic reporting burden are set forth below for each of the information collected.

(1) Requirement to record and categorize complaints received.

Respondents: Certificated U.S. air carriers and foreign air carriers operating to and from the United States that conduct passenger-carrying service with at least one large aircraft.

Number of Respondents: 177 (an average of the total number of respondents that reported over the past three years).

Estimated Annual Burden on Respondents: 0-1,611 hours (96,660 minutes) a year for each respondent (estimated time to record and categorize each complaint (15 minutes) multiplied by the lowest number of complaints and the average of the highest number of complaints received per respondent over the past three years (0-6,444 complaints).

Estimated Total Annual Burden: 8,148 hours (488,880 minutes) for all respondents (time to record and categorize each complaint (15 minutes) multiplied by the average total number of complaints received over the past three years (32,591) for all respondents).

Frequency: 0-6,444 complaints (a range of the lowest number of complaints and an average of the highest number of complaints received over the past three years).

(2) Requirement to prepare and submit annual report.

Respondents: Certificated U.S. air carriers and foreign air carriers operating to and from the United States that conduct passenger-carrying service with at least one large aircraft.

Number of Respondents: 177 (an average of the total number of respondents that reported over the past three years).

Estimated Annual Burden on Respondents: 30 minutes a year per each respondent.

Estimated Total Annual Burden: 88.5 hours (5,310 minutes) for all respondents (estimated annual burden [30 minutes] multiplied by the total number of respondents).

Frequency: 1 report to DOT per year for each respondent.

(3) Requirement to retain correspondences and records of action taken on all disability-related complaints.

Respondents: Certificated U.S. air carriers and foreign air carriers operating to and from the United States that conduct passenger-carrying service with at least one large aircraft.

Number of Respondents: 177 (an average of the total number of respondents that reported over the past three years).

Estimated Annual Burden on Respondents: 0-537 hours (0-32,220 minutes) for each respondent (the estimated time it will take for each respondent to retain or save the correspondences and records of action taken on disability-related complaints (5 minutes) multiplied by the lowest number of complaints and the average highest number of complaints received per respondent over the past three years (0-6,444)).

Estimated Total Annual Burden: 2,716 hours (162,955 minutes) for all respondents (the estimated time it will take for each respondent to retain or save the correspondences and records of action taken on disability-related complaints (5 minutes) multiplied by the average total number of complaints received over the past three years (32,591) for all respondents).

Frequency: 0-6,444 complaints per year for each respondent (A range of the lowest number of complaints and an average of the highest number of complaints received over the past three years).

Comments are invited on: (a) Whether the collection of information is necessary for the proper performance of the Department's functions, including whether the information will have practical utility; (b) the accuracy of the Department's estimate of the burden of the proposed information collection; (c) ways to enhance the quality, utility and clarity of the information to be collected; and (d) ways to minimize the burden of the collection of information on respondents, including the use of automated collection techniques or other forms of information technology. All responses to this notice will be summarized and included in the request for OMB approval. All comments will also become a matter of public record.

Authority: The Paperwork Reduction Act of 1995; 44 U.S.C. Chapter 35, as amended; and 49 CFR part 1.

Issued in Washington, DC, on December 14, 2018.
Blane A. Workie,
Assistant General Counsel for Aviation Enforcement and Proceedings.

[FR Doc. 2018-27532 Filed 12-19-18; 8:45 am]

BILLING CODE 4910-9X-P